DEPARTMENT OF TRANSPORTATION

Federal Aviation Administration

RTCA Government/Industry Air Traffic Management Advisory Committee (ATMAC)

AGENCY: Federal Aviation Administration (FAA), DOT.

ACTION: Notice of RTCA Government/Industry Air Traffic Management Advisory Committee (ATMAC)

SUMMARY: The FAA is issuing this notice to advise the public of a meeting of RTCA Government/Industry Air Traffic Management Advisory Committee (ATMAC)

DATES: The meeting will be held October 28, 2010, from 9 a.m. to 11 a.m.

ADDRESSES: The meeting will be held at RTCA Headquarters, Colson Board Room, 1828 L Street, NW., Suite 805, Washington, DC 20036

METRO: Red Line—Farragut North Station (Use L Street Exit) Blue/Orange Line—Farragut West Station (Use 18th Street Exit).

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for the Air Traffic Management Advisory Committee meeting. The agenda will include:

• Opening Plenary (Welcome and Introductions).

• Consideration for approval of Interim Recommendations from the Trajectory Operations (Tops) Work Group providing guidance to SC-214 related to the development of standards for Air Traffic Control Data Communications.

• FAA response on remaining gaps identified by the ATMAC between the TF5 recommendations and the FAA's NextGen Implementation Plan.

• Closing Plenary (Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 29, 2010.
Robert L. Bostiga,
RTCA Advisory Committee.

[FR Doc. 2010-24994 Filed 10-4-10; 8:45 am]

BILLING CODE 4910-13-P